DEPARTMENT OF THE INTERIOR

National Park Service

National Register of Historic Places; Notification of Pending Nominations and Related Actions

Nominations for the following properties being considered for listing or related actions in the National Register were received by the National Park Service before August 8, 2008. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 8, 2009.

J. Paul Loether,
Chief, National Register of Historic Places/National Historic Landmarks Program.

IOWA

Black Hawk County

Fowler Company Building, The, 226-228 E. 4th St., Waterloo, 09000712

Dubuque County

Schrup, John and Marie (Palen) Farmstead Historic District, 10086 Lake Eleanor Rd., Dubuque, 09000713

Polk County

Iowa Comission for the Blind Building, 524 4th St., Des Moines, 09000714

Poweshiek County

Kent Union Chapel and Cemetery, 3386 V18 Rd., Brooklyn, 09000715

MASSACHUSETTS

Berkshire County

Tyringham Cemetery, Church Rd., Tyringham, 09000716

Suffolk County

Fairview Cemetery, 45 Fairview Ave., Boston, 09000717

MISSISSIPPI

Coahoma County

Clarksdale Historic District Roughly bounded by the Sunflower R., 10th St., DeSoto Ave. & Clark St., Clarksdale, 09000763

MISSOURI

Adair County

Travelers Hotel, 301 W. Washington St., Kirksville, 09000718

St. Louis Independent City

Grand—Bates Suburb Historic District, Roughly bounded by Bates St., Grand Blvd., I-55, Alaska Ave., Fillmore & Iron Sts., St. Louis (Independent City), 09000719

NEW YORK

Franklin County

Wilder Homestead, Stacy Rd., Malone, 09000720

Montgomery County

Kilts Farmstead, Address Restricted, Stone Arabia, 09000721

New York County

Trinity Lutheran Church of Manhattan, 164 W. 100th St., New York, 09000722

Saratoga County

Bullard Block, 90-98 Broad St., Schuylerville, 09000723

Seneca County

Lay, Hiram, Cobblestone Farmhouse, (Coal Company Stores in McDowell County MPS) 1145 Mays Point Rd., Tyre, 09000724

NORTH CAROLINA

Robeson County

Surles, W.R. Memorial Library, 105 W. Main St., Proctorville, 09000725

VIRGINIA

Danville Independent City

Hylton Hall, 700 Lanier Ave., Danville (Independent City), 09000726

Goochland County

Oak Grove, 664 Manakin Rd., Manikan-Sabot, 09000727

Highland County

Crab Run Lane Truss Bridge, VA 645 over Crab Run, McDowell, 09000728

Hopewell Independent City

Hopewell High School Complex, 1201 City Point Rd., Hopewell (Independent City), 09000729

Richmond Independent City

Ninth Street Office Building, 202 N. 9th St., Richmond (Independent City), 09000730

West Franklin Street Historic District (Boundary Increase),

900 blk. West Grace St., 4000 blk. N. Harrison St., 300 blk. Shafer St., Richmond (Independent City), 09000731

WASHINGTON

King County

Snoqualmie Falls Snoqualmie R., between mi. 40 & 41 Snoqualmie, 92000784

Thurston County

Millersylvania State Park, 12245 Tilley Rd., Olympia, 09000732

WEST VIRGINIA

Jefferson County

South Charles Town Historic District, S. George, S. Mildred, S. Samuel, & S. Church Sts., Charles Town, 09000733

[FR Doc. E9-20298 Filed 8-21-09; 8:45 am]

BILLING CODE P